DEPARTMENT OF ENERGY

Federal Energy Regulatory Commission

Combined Notice of Filings #2

Take notice that the Commission received the following electric rate filings:

Docket Numbers: ER10-1325-002; ER14-2323-000; ER14-2321-000; ER14-2319-000; ER12-1958-002; ER12-1946-002; ER11-2080-002; ER10-1335-002; ER10-1333-002.

Applicants: CinCap V LLC, Duke Energy Beckjord, LLC, Duke Energy Commercial Asset Management, Duke Energy Commercial Enterprises, Inc., Duke Energy Piketon, LLC, Duke Energy Retail Sales, LLC.

Description: Second supplement to June 30, 2014 Triennial Market Power Analysis Update for the Southeast Region of Duke Energy Corporation MBR Sellers.

Filed Date: 10/1/14.

Accession Number: 20141001-5317.

Comments Due: 5 p.m. ET 10/22/14.

Docket Numbers: ER10-2564-003; ER10-2289-003; ER10-2600-003.

Applicants: UNS Electric, Inc., Tucson Electric Power Company, UniSource Energy Development Company.

Description: Response to Request [to Question No. 9] for Additional Information of Tucson Electric Power Company, et al.

Filed Date: 10/1/14.

Accession Number: 20141001-5261.

Comments Due: 5 p.m. ET 10/22/14.

Docket Numbers: ER11-2558-002; ER14-825-000; ER14-824-000; ER11-2557-002; ER11-2554-002; ER11-2552-002.

Applicants: Niagara Mohawk Power Corporation, New England Power Company, National Grid-Glenwood Energy Center, LLC, National Grid-Port Jefferson Energy Center, LLC, Massachusetts Electric Company, The Narragansett Electric Company.

Description: Supplement to December 24, 2013 Updated Triennial Market Power Analysis for Northeast Region of Niagara Mohawk Power Corporation, et al.

Filed Date: 9/30/14.

Accession Number: 20140930-5361.

Comments Due: 5 p.m. ET 10/14/14.

Docket Numbers: ER15-5-000.

Applicants: Wyoming Colorado Intertie, LLC.

Description: Compliance filing per 35: Order No. 792 Compliance Filing to be effective 10/2/2014.

Filed Date: 10/1/14.

Accession Number: 20141001-5250.

Comments Due: 5 p.m. ET 10/22/14.

Docket Numbers: ER15-6-000.

Applicants: Midcontinent Independent System Operator, Inc.

Description: § 205(d) rate filing per 35.13(a)(2)(iii): 2014-10-01_Amend Schedule 33 Blackstart to be effective 12/1/2014.

Filed Date: 10/1/14.

Accession Number: 20141001-5260.

Comments Due: 5 p.m. ET 10/22/14.

Docket Numbers: ER15-7-000.

Applicants: Midcontinent Independent System Operator, Inc.

Description: § 205(d) rate filing per 35.13(a)(2)(iii): 2014-10-1_Add City of Alexandria, Louisiana to Attachment FF-4 to be effective 12/1/2014.

Filed Date: 10/1/14.

Accession Number: 20141001-5265.

Comments Due: 5 p.m. ET 10/22/14.

Docket Numbers: ER15-8-000.

Applicants: New York Independent System Operator, Inc., Niagara Mohawk Power Corporation.

Description: § 205(d) rate filing per 35.13(a)(2)(iii): TO 205 filing of LGIA No. 2161 between NMPC and Selkirk Cogen Partners to be effective 9/1/2014.

Filed Date: 10/1/14.

Accession Number: 20141001-5280.

Comments Due: 5 p.m. ET 10/22/14.

Docket Numbers: ER15-9-000.

Applicants: PacifiCorp.

Description: § 205(d) rate filing per 35.13(a)(2)(iii): OATT Revised Schedule 4 to be effective 12/1/2014.

Filed Date: 10/1/14.

Accession Number: 20141001-5285.

Comments Due: 5 p.m. ET 10/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2014.
Nathaniel J. Davis, Sr.,
Deputy Secretary.

[FR Doc. 2014-24107 Filed 10-8-14; 8:45 am]

BILLING CODE 6717-01-P